DEPARTMENT OF THE INTERIOR

Fish and Wildlife Service

[FWS-R9-IA-2010-N153]

[96300-1671-0000-P5]

Issuance of Permits

AGENCY: Fish and Wildlife Service, Interior.

ACTION: Notice of issuance of permits.

SUMMARY: We, the U.S. Fish and Wildlife Service (Service), have issued the following permits to conduct certain activities with endangered species and marine mammals.

ADDRESSES: Documents and other information submitted with these applications are available for review, subject to the requirements of the Privacy Act and Freedom of Information Act, by any party who submits a written request for a copy of such documents to: U.S. Fish and Wildlife Service, Division of Management Authority, 4401 North Fairfax Drive, Room 212, Arlington, Virginia 22203; fax 703-358-2281.

FOR FURTHER INFORMATION CONTACT: Division of Management Authority, telephone 703-358-2104.

SUPPLEMENTARY INFORMATION: Notice is hereby given that on the dates below, as authorized by the provisions of the Endangered Species Act of 1973, as amended (16 U.S.C. 1531 et seq.), and the Marine Mammal Protection Act of 1972, as amended (16 U.S.C. 1361 et seq.), the Fish and Wildlife Service issued the requested permits subject to certain conditions set forth therein. For each permit for an endangered species, the Service found that (1) the application was filed in good faith, (2) the granted permit would not operate to the disadvantage of the endangered species, and (3) the granted permit would be consistent with the purposes and policy set forth in Section 2 of the Endangered Species Act of 1973, as amended.

Endangered Species

Permit number | Applicant | Receipt of application Federal Register notice | Permit issuance date
09009A | Luis Federico Carlo Mendoza | 75 FR 22162, April 27, 2010 | July 2, 2010
14520A | Katherine Lavie Fraser | 75 FR 34766; June 18, 2010 | July 21, 2010
14522A | Patrick B. Carrier | 75 FR 34766; June 18, 2010 | July 21, 2010

Marine Mammals

Permit number | Applicant | Receipt of application Federal Register notice | Permit issuance date
03086A | Robert F. Rockwell, American Museum of Natural History | 75 FR 14627; March 26, 2010 | July 21, 2010
04400A | Sea Studios Foundation | 75 FR 14627; March 26, 2010 | July 23, 2010

Dated: July 23, 2010.
Brenda Tapia,
Program Analyst, Branch of Permits, Division of Management Authority.

[FR Doc. 2010-18754 Filed 7-29-10; 8:45 am]

BILLING CODE S